FEDERAL COMMUNICATIONS COMMISSION

Notice of Public Information Collection(s) being Reviewed by the Federal Communications Commission for Extension Under Delegated Authority

October 1, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 13, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-1071.

Title: Rural Wireless Community VISION Program Essay Guidelines.

Form No.: Not Applicable.

Type of Review: Extension of a currently approved collection.

Respondents: State, local or tribal government.

Number of Respondents: 250.

Estimated Time Per Response: 8 hours.

Frequency of Response: On occasion reporting requirement.

Total Annual Burden: 2,000 hours.

Total Annual Cost: Not Applicable.

Privacy Act Impact Assessment: Not Applicable.

Needs and Uses: The Commission is soliciting public comment on this information collection which received emergency OMB approval on 9/30/04. The Commission is requesting an extension (no change) in the reporting requirements in order to obtain the full three year clearance from OMB. The VISION Program essay guidelines describes the vision of rural communities for wireless connectivity and services as part of the Rural Wireless Community VISION Program, which is part of the Federal Rural Wireless Outreach initiative which coordinates activities between the U.S. Department of Agriculture, Rural Utilities Service and the Federal Communications Commission, Wireless Telecommunications Bureau and other agencies in order to expedite the build-out of wireless telecommunications throughout the nation.

Federal Communications Commission.
Marlene H. Dortch,
Secretary.

[FR Doc. 04-22881 Filed 10-8-04; 8:45 am]

BILLING CODE 6712-01-P